DEPARTMENT OF ENERGY

Federal Energy Regulatory Commission

Combined Notice of Filings

Take notice that the Commission has received the following Natural Gas and Oil Pipeline Rate and Refund Report filings:

Filings Instituting Proceedings

Docket Numbers: RP24-130-000.

Applicants: Columbia Gas Transmission, LLC.

Description: § 4(d) Rate Filing: TCO-MXP Negotiated Rate Agreements Eff. 11.1.23 to be effective 11/1/2023.

Filed Date: 11/1/23.

Accession Number: 20231101-5167.

Comment Date: 5 p.m. ET 11/13/23.

Docket Numbers: RP24-131-000.

Applicants: Gulf South Pipeline Company, LLC.

Description: § 4(d) Rate Filing: 2023 Fuel Tracker Filing to be effective 4/1/2024.

Filed Date: 11/1/23.

Accession Number: 20231101-5174.

Comment Date: 5 p.m. ET 11/13/23.

Docket Numbers: RP24-132-000.

Applicants: Algonquin Gas Transmission, LLC.

Description: § 4(d) Rate Filing: Negotiated Rates—Amended Excelerate 510850 eff 11-1-23 to be effective 11/1/2023.

Filed Date: 11/1/23.

Accession Number: 20231101-5179.

Comment Date: 5 p.m. ET 11/13/23.

Docket Numbers: RP24-133-000.

Applicants: Gulf South Pipeline Company, LLC.

Description: § 4(d) Rate Filing: Implement Electric Power Cost Tracker to be effective 4/1/2024.

Filed Date: 11/1/23.

Accession Number: 20231101-5181.

Comment Date: 5 p.m. ET 11/13/23.

Docket Numbers: RP24-134-000.

Applicants: El Paso Natural Gas Company, L.L.C.

Description: § 4(d) Rate Filing: Negotiated Rate Agreement Update (Conoco Nov 2023) to be effective 11/2/2023.

Filed Date: 11/1/23.

Accession Number: 20231101-5182.

Comment Date: 5 p.m. ET 11/13/23.

Docket Numbers: RP24-135-000.

Applicants: Texas Eastern Transmission, LP.

Description: § 4(d) Rate Filing: Negotiated Rates—Various Releases eff 11-1-23 to be effective 11/1/2023.

Filed Date: 11/1/23.

Accession Number: 20231101-5189.

Comment Date: 5 p.m. ET 11/13/23.

Docket Numbers: RP24-136-000.

Applicants: Columbia Gas Transmission, LLC.

Description: § 4(d) Rate Filing: TCO Negotiated Rate Agreements Eff. 11.1.23 to be effective 11/1/2023.

Filed Date: 11/1/23.

Accession Number: 20231101-5190.

Comment Date: 5 p.m. ET 11/13/23.

Docket Numbers: RP24-137-000.

Applicants: ANR Pipeline Company.

Description: § 4(d) Rate Filing: ANR Nov. 1 Negotiated Rate Agreements to be effective 11/1/2023.

Filed Date: 11/1/23.

Accession Number: 20231101-5200.

Comment Date: 5 p.m. ET 11/13/23.

Docket Numbers: RP24-138-000.

Applicants: Trailblazer Pipeline Company LLC.

Description: § 4(d) Rate Filing: TPC 2023-11-01 Negotiated Rate Agreement to be effective 11/1/2023.

Filed Date: 11/1/23.

Accession Number: 20231101-5208.

Comment Date: 5 p.m. ET 11/13/23.

Docket Numbers: RP24-139-000.

Applicants: Rover Pipeline LLC.

Description: § 4(d) Rate Filing: Summary of Negotiated Rate Capacity Release Agreements 11-1-2023 to be effective 11/1/2023.

Filed Date: 11/1/23.

Accession Number: 20231101-5213.

Comment Date: 5 p.m. ET 11/13/23.

Docket Numbers: RP24-140-000.

Applicants: Portland Natural Gas Transmission System.

Description: § 4(d) Rate Filing: Castleton Negotiated Rate Agreement #287978 to be effective 11/1/2023.

Filed Date: 11/1/23.

Accession Number: 20231101-5227.

Comment Date: 5 p.m. ET 11/13/23.

Docket Numbers: RP24-141-000.

Applicants: Equitrans, L.P.

Description: § 4(d) Rate Filing: Negotiated Rate Capacity Release Agreement—11/01/2023 to be effective 11/1/2023.

Filed Date: 11/2/23.

Accession Number: 20231102-5000.

Comment Date: 5 p.m. ET 11/14/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 2, 2023.
Debbie-Anne A. Reese,
Deputy Secretary.

[FR Doc. 2023-24741 Filed 11-8-23; 8:45 am]

BILLING CODE 6717-01-P